DEPARTMENT OF AGRICULTURE

Forest Service

Notice of Availability Application for Transportation and Utility Systems and Facilities for the Village at Wolf Creek Draft Environmental Impact Statement

AGENCY: Forest Service, Rio Grande National Forest.

ACTION: Notice of availability and public meetings.

SUMMARY: The United States Department of Agriculture (USDA) Forest Service (USFS), Rio Grande National Forest (RGNF) announces the availability of the Application for Transportation and Utility Systems and Facilities for the Village at Wolf Creek Draft Environmental Impact Statement (EIS). Draft EIS was prepared in accordance with the Council on Environmental Quality's National Environmental Policy Act (NEPA) Implementing Regulations (40 CFR parts 1500-1508). The EIS analyzes the environmental impacts of a proposal to authorize the construction and use of road and utility corridors across Federal land administered by the USFS RGNF to a 287.5-acre private parcel of land (private property). Four alternatives are considered: (1) The No Action Alternative; (2) the Proposed Action (Tranquility Road); (3) the Snow Shed—East Village Access Alternative; and (4) the Dual Access Road Alternative—Tranquility Road and the Snow Shed—East Village Access Alternative. More than one access road and utility corridor may be authorized by the USFS as a result of the Application.

DATES: USFS invites Federal agencies, State and local governments, Native American tribes, and the public to comment on the Draft EIS. The comment period extends for forty-five days from the publication of the Notice of Availability published by the Environmental Protection Agency on October 8, 2004. Comments submitted after that date will be considered to the extent practicable. The USFS will consider the comments in the preparation of the Final EIS. Public meetings to present information and receive written comments on the Draft EIS will be held at three locations. This information will also be published in local Colorado newspapers prior to the meetings. Any necessary changes will be announced in the local media and on the Web site noted in the ADDRESSES section of this notice. Written comments will be accepted at the public meetings.

The locations, dates, and times for these public meetings are as follows:

Tuesday, October 26, 2004 3 p.m.-7 p.m., Creede Community Center, Forest Service Road 503 #9, Creede, Colorado 81130.

Wednesday, October 27, 2004, 3 p.m.-7 p.m., South Fork Community Center, 0254 Highway 49, South Fork, Colorado 81154.

Thursday, October 28, 2004, 3 p.m.-7 p.m., Pagosa Springs Community Center, 451 Hot Springs Boulevard, Pagosa Springs, Colorado 81147.

The following Web site may be accessed for additional information: http://www.fs.fed.us/r2/riogrande/planning/planning.htm.

ADDRESSES: Send written comments on the Draft EIS or requests for copies of the Draft EIS to: VWC DEIS Comments, Tetra Tech Inc., 5205 Leesburg Pike, Suite 1400, Falls Church, VA 22041. You may send electronic comments to comments-rocky-mountain-rio-grande@fs.fed.us, or comments may be faxed to (703) 931-9222.

A copy of the Draft EIS is available on the Internet at: http://www.fs.fed.us/r2/riogrande/planning/planning.htm.

FOR FURTHER INFORMATION CONTACT: Contact Mr. Robert Dalrymple, Forest Planner, USDA-USFS, Rio Grande National Forest, (719) 852-5941. Refer to SUPPLEMENTARY INFORMATION regarding public disclosure of submitted comment information.

SUPPLEMENTARY INFORMATION: The Rio Grande National Forest is comprised of 1.86 million acres located in southwestern Colorado. Denver, Colorado, is approximately 300 miles to the north of the RGNF, and Albuquerque, New Mexico, is approximately 270 miles to the south. The Continental Divide runs for 236 miles along most of the western border of the RGNF. The Wolf Creek Ski Area (Ski Area) is located on lands administered by the RGNF.

On May 14, 1987, the USFS conveyed to the Leavell-McCombs Joint Venture 287.5 acres of private property in exchange for property in Saguache County, Colorado. The 287.5 acres is entirely surrounded by Federal lands; a condition that was recognized at the time the land exchange was approved. The 287.5-acre private property is also entirely within the Wolf Creek Ski Corporation (WCSC) Special Use Permit (SUP) boundary managed by the USFS as a winter use area. Presently, the Leavell-McCombs Joint Venture is requesting authorization to construct and use road and utility corridors across Federal land to access their private property.

The all-weather, year-round access road would not exceed 2,350 feet in length within a 60-foot width. Any new or upgraded sections of the roadway would be constructed to USFS specifications and would cross USFS land from United States Highway 160 (Highway 160) to the private property. Approximately 2,100 feet of this proposed route has been developed as a road, known as “Tranquility Road,” for access to Ski Area parking lots and will be operated and maintained under the WCSC SUP. Vehicle traffic would consist of passenger vehicles, buses, and other vehicles and transport necessary to develop, construct, operate, and support the residents and businesses associated with the Village at Wolf Creek.

The Application would also grant two 10-foot wide permanent utility corridors for the installation, operation, maintenance, repair, and replacement of electrical transmission lines and facilities; television cables, communication cables and lines, fiber-optic lines, and other utilities as required to serve the private property (Village at Wolf Creek). An additional 1,000-foot long, 20-foot wide utility corridor from Highway 160 to the northwest section of the property is also proposed.

The responsible Official is the Forest Supervisor, Rio Grande National Forest, 1803 West Highway 160, Monte Vista, CO 81132. The NEPA decision to be made by the USFS official is whether or not to authorize the Application for Transportation and Utility Systems and Facilities on Federal lands as proposed by the Leavell-McCombs Joint Venture, or alternatives to the proposed access road(s) and utility corridors.

No Action: The No Action Alternative is the current USFS management situation. Under this alternative, USFS would not issue the Applicant any special-use authorization for access or utility corridors across USFS lands to the private property. However, this action would not preclude the Applicant from continuing to have limited access to the private property via Forest System Road (FSR) 391. The Applicant has stated the intent to develop 2,172 units on the private property as the Village at Wolf Creek even if the No Action Alternative is selected by the USFS.

Proposed Action: The Applicant submitted a request for authorization to construct and use an 80-foot wide corridor across USFS lands for both road and utility purposes, from Highway 160 to the private property via an extension of “Tranquility Road”. Tranquility Road has a 23-foot driving surface, and WCSC plans to complete it in 2004. To access the western boundary of the private property, the Applicant is proposing to extend Tranquility Road by adding approximately 250 feet of road length. The extensions would have a minimum 24-foot wide running surface. The road access associated with this alternative would merge into the current entrance to the Ski Area at the junction with Highway 160. Utility corridors to the east and the north of the approximately 2,350-foot access road would include buried electrical transmission lines, television and communication cables, fiber-optic lines, and other utilities. An additional 1,000-foot long, 20-foot wide utility corridor from Highway 160 to the northwest section of the private property is also proposed. Public access across the private property on FSR 391 would remain unchanged from the current USFS management conditions.

Snow Shed—East Village Access Alternative: The Snow Shed—East Village Access Alternative would authorize the construction and use of an access road and three utility corridors that begin on Highway 160, at a point approximately 0.33 mile east of the current entrance to the Ski Area and approximately 0.25 mile west of the Snow Shed. Utility corridors alongside the approximately 1,500-foot access road would include buried electrical transmission lines, television and communication cables, fiber-optic lines, and other utilities. Public access across private lands on FSR 391 would remain unchanged from the current management conditions.

Dual Access Road Alternative: This alternative provides two access roads to the private property and utility corridors associated with those roads. This alternative would be a combination of Alternative 2 (Proposed Action) and the first 750 feet of Alternative 3 (from Highway 160 to the northwestern boundary of the private property). Public access across private lands on FSR 391 would remain unchanged from the current management conditions.

After the end of the public comment period, the USFS will consider and respond to the comments received, revise the Draft EIS as appropriate, and issue the Final EIS. The USFS will consider the analysis in the Final EIS, along with other information, in making a decision on the request for authorized use of the access road(s) and corridor(s).

Comments Requested

The Notice of Availability published by the Environmental Protection Agency on October 8, 2004 initiated the public comment process that guides the development of the Final EIS. The USFS invites written comments and suggestions on the proposed action and alternatives, including any issues to consider, as well as any concerns relevant to the analysis. Pursuant to 30 CFR 215.13(b), only those individuals or organizations who submitted substantive comments during the comment period may file an appeal.

Comments received in response to this notice, including names and addresses of those who comment, will be considered part of the public record on this Proposed Action and will be available for public inspection. If you wish to withhold your name or street address from public review or from disclosure under the Freedom of Information Act (FOIA), you must state this prominently at the beginning of your written comment. Such requests will be honored to the extent allowed by law, but persons requesting such confidentiality should be aware that under the FOIA, confidentiality may be granted in only very limited circumstances, such as to protect trade secrets. The USFS will inform the requester of the agency's decision regarding the request for confidentiality, and where the request is denied, the agency will return the submission and notify the requester that the comments may be resubmitted with or without name and address within a specified number of days. All submissions from organizations and business, and from individuals identifying themselves as representatives or officials of organizations or businesses, will be available for public inspection in their entirety. Comments submitted anonymously will be accepted and considered; however, those who submit anonymous comments will not have standing to appeal the subsequent decision pursuant to 36 CFR part 215. Comments and USFS responses will be addressed in the Final EIS.

Dated: October 8, 2004.
Peter L. Clark,
Forest Supervisor.

[FR Doc. 04-23155 Filed 10-14-04; 8:45 am]

BILLING CODE 3410-11-M